ENVIRONMENTAL PROTECTION AGENCY

40 CFR Part 52

[EPA-R06-OAR-2018-0208; FRL-10009-05-Region 6]

Air Plan Approval; Oklahoma; Updates to the General SIP and New Source Review Permitting Requirements; Correction

AGENCY: Environmental Protection Agency (EPA).

ACTION: Final rule; correction.

SUMMARY: The Environmental Protection Agency (EPA) is correcting a final rule that was published in the Federal Register on April 10, 2020 which will be effective on May 11, 2020. The final rule approved revisions to the state implementation plan for Oklahoma (Oklahoma SIP) concerning the incorporation by reference of federal requirements, updates to the general SIP provisions, and updates to the New Source Review (NSR) permit programs to address public notice and modeling requirements, including certain statutory provisions. This correction does not change any final action taken by the EPA on April 10, 2020; today's action merely provides further clarification on the rulemaking citations for the Oklahoma SIP.

DATES: This rule is effective on May 11, 2020.

ADDRESSES: The EPA has established a docket for this action under Docket ID No. EPA-R06-OAR-2018-0208. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Adina Wiley, EPA Region 6 Office, Air Permits Section, 214-665-2115, wiley.adina@epa.gov. Out of an abundance of caution for members of the public and our staff, the EPA Region 6 office will be closed to the public to reduce the risk of transmitting COVID-19. Please call or email the contact listed above if you need alternative access to material indexed but not provided in the docket.

SUPPLEMENTARY INFORMATION: In FR doc. 2020-06160 at 85 FR 20178 in the issue of April 10, 2020, the following corrections are made:

§ 52.1920 [Corrected]

1. On page 20181, in the second column, amendatory instruction a.ii. is corrected to read “Adding entries for “252:4-7-20”, “252:4-17-1”, “252:4-17-2”, “252:4-17-3”, “252:4-17-4”, “252:4-17-5”, “252:4-17-6”, “252:4-17-7”, “252:100-8-36.1”; and”

2. On the same page, in the third column, amendatory instruction b.i. is corrected to read “Amend the table titled “EPA-Approved Nonregulatory Provisions and Quasi-Regulatory Measures in the Oklahoma SIP” by adding a new entry at the end of the table for: “Letter to Ms. Anne Idsal, Regional Administrator, EPA Region 6, dated May 16, 2018 regarding “Clarification of PSD Public Participation Procedures under 2017 Revisions to the Oklahoma State Implementation Plan”.”

3. On the same page, in the same column, amendatory instruction b.ii. is corrected to read “Amend the table titled “EPA Approved Statutes in the Oklahoma SIP” by adding new entries at the beginning of the table for “25 O.S. 304(2)”, “27A O.S. 2-5-112(E)”, “27A O.S. 2-14-103”, “27A O.S. 2-14-301”, “27A O.S. 2-14-302”, “27A O.S. 2-14-303”, “27A O.S. 2-14-304”; “51 O.S. 24A.3”, “75 O.S. 302(B)”, and “75 O.S. 303”.

Dated: April 29, 2020.
Kenley McQueen,
Regional Administrator, Region 6.

[FR Doc. 2020-09550 Filed 5-11-20; 8:45 am]

BILLING CODE 6560-50-P